DEPARTMENT OF ENERGY

Federal Energy Regulatory Commission

[Docket Nos. EL08-87-000; PL09-3-000]

Electric Power Supply Association; Control and Affiliation for Purposes of Market-Based Rate Requirements Under Section 205 of the Federal Power Act and the Requirements of Section 203 of the Federal Power Act; Notice Redocketing Proceeding

November 5, 2008.

On September 2, 2008, the Electric Power Supply Association (EPSA) filed a petition with the Commission requesting guidance with respect to the question of when investments in publicly-held companies will be deemed to convey “control” or to result in “affiliation” for purposes of the Commission's market-based rate requirements under section 205 of the Federal Power Act (FPA) and the requirements of section 203 of the FPA. The filing was docketed as EL08-87-000.

Examination of the filing shows that that EPSA's petition raises issues of generic implication to the electric utility industry, and thus should have been assigned a PL docket prefix indicating matters of general applicability. By this notice, the above-referenced proceeding is hereby redocketed as Docket No. PL09-3-000 and Docket No. EL08-87-000 is hereby terminated. All pleadings filed in Docket No. EL08-87-000 will also be redocketed in the new docket number, Docket No. PL09-3-000. As the instant proceeding is matter of general applicability, interventions need not be filed.

Kimberly D. Bose,
Secretary.

[FR Doc. E8-26898 Filed 11-12-08; 8:45 am]

BILLING CODE 6717-01-P